FEDERAL ELECTION COMMISSION

Sunshine Act Notices

Date &Time: Tuesday February 6, 2007 at 10 a.m.

Place: 999 E Street, NW., Washington, DC.

Status: This meeting will be closed to the Public.

Items to be Discussed: Compliance matters pursuant to 2 U.S.C. 437g.

Audits conducted pursuant to 2 U.S.C. 437g, 438(b), and Title 26, U.S.C. Matters concerning participation in civil actions or proceedings or arbitration. Internal personnel rules and procedures or matters affecting a particular employee.

Person to Contact for Information: Mr. Robert Biersack, Press Officer, Telephone: (202) 694-1220.

Mary W. Dove,
Secretary of the Commission.

[FR Doc. 07-463 Filed 1-30-07; 2:40 pm]

BILLING CODE 6715-01-M